DEPARTMENT OF HEALTH AND HUMAN SERVICES

Office of the Secretary

Federal Financial Participation in State Assistance Expenditures; Federal Matching Shares for Temporary Assistance to Needy Families, Medicaid, Aid to Needy Aged, Blind, or Disabled Persons and State Children's Health Insurance Program for October 1, 2001 through September 30, 2002

AGENCY: Office of the Secretary, DHHS.

ACTION: Notice.

SUMMARY: The Federal Medical Assistance Percentages and Enhanced Federal Medical Assistance Percentages for Fiscal Year 2002 have been calculated pursuant to the Social Security Act (the Act). These percentages will be effective from October 1, 2001 through September 30, 2002. This notice announces the calculated “Federal Medical Assistance Percentages” and “Enhanced Federal Medical Assistance Percentages” that we will use in determining the amount of Federal matching in State medical assistance (Medicaid), State Children's Health Insurance Program (SCHIP) expenditures, and for the annual reconciliation of contingency funds under Title IV-A. The table gives figures for each of the 50 States, the District of Columbia, Puerto Rico, the Virgin Islands, Guam, American Samoa, and the Northern Mariana Islands. Programs under title XIX of the Act exist in each jurisdiction; programs under titles I, X, and XIV operate only in Guam and the Virgin Islands; while a program under title XVI (AABD) operates only in Puerto Rico. Programs under title XXI began functioning in fiscal year 1998. The percentages in this notice apply to State expenditures for assistance payments, medical services and medical insurance services (except family planning which is subject to a higher matching rate). The statute provides separately for Federal matching of administrative costs.

Sections 1905(b) and 1101(a)(8)(B) of the Act require the Secretary of Health and Human Services to publish these percentages each year. The Secretary is to figure the percentages, by formulas in sections 1905(b) and 1101(a)(8)(B), from the Department of Commerce's statistics of average income per person in each State and in the Nation as a whole. The percentages are within the upper and lower limits given in those two sections of the Act. The statute specifies the percentages to be applied to the District of Columbia, Puerto Rico, the Virgin Islands, Guam, American Samoa, and the Northern Mariana Islands.

The “Federal medical assistance percentages” are for Medicaid. These percentages will also be used for the annual reconciliation of any Contingency funds received under the Temporary Assistance for Needy Families program.

The “Enhanced Federal Medical Assistance Percentages” are for use in the State Children's Health Insurance Program under Title XXI, and in the Medicaid program for certain children for expenditures for medical assistance described in sections 1905(u)(2) and 1905(u)(3). There is no specific requirement to publish these percentages. We include them in this notice for the convenience of the States.

EFFECTIVE DATES: The percentages listed will be effective for each of the four quarter-year periods in the period beginning October 1, 2001 and ending September 30, 2002.

FOR FURTHER INFORMATION CONTACT: Jennifer Tolbert or Robert Stewart, Office of Health Policy, Office of the Assistant Secretary for Planning and Evaluation, Room 442E Hubert H. Humphrey Building, 200 Independence Avenue SW, Washington, DC 20201, (202) 690-6870.

(Catalog of Federal Domestic Assistance Program Nos. 93.588-Temporary Assistance for Needy Families; 93.563-Child Support Enforcement; 93.659-Adoption Assistance; 93.778-Medical Assistance Program; 93.767-State Children's Health Insurance Program)

Dated: November 6, 2000.
Donna E. Shalala,
Secretary of Health and Human Services.

Federal Medical Assistance Percentages and Enhanced Federal Medical Assistance Percentages, Effective October 1, 2001-September 30, 2002
[Fiscal Year 2002]
State | Federal medical assistance percentages | Enhanced federal medical assistance percentages
Alabama | 70.45 | 79.32
Alaska | 53.01 | 67.11
American Samoa* | 50.00 | 65.00
Arizona | 64.98 | 75.49
Arkansas | 72.64 | 80.85
California | 51.40 | 65.98
Colorado | 50.00 | 65.00
Connecticut | 50.00 | 65.00
Delaware | 50.00 | 65.00
District of Columbia** | 70.00 | 79.00
Florida | 56.43 | 69.50
Georgia | 59.00 | 71.30
Guam* | 50.00 | 65.00
Hawaii | 56.34 | 69.44
Idaho | 71.02 | 79.71
Illinois | 50.00 | 65.00
Indiana | 62.04 | 73.43
Iowa | 62.86 | 74.00
Kansas | 60.20 | 72.14
Kentucky | 69.94 | 78.96
Louisiana | 70.30 | 79.21
Maine | 66.58 | 76.61
Maryland | 50.00 | 65.00
Massachusetts | 50.00 | 65.00
Michigan | 56.36 | 69.45
Minnesota | 50.00 | 65.00
Mississippi | 76.09 | 83.26
Missouri | 61.06 | 72.74
Montana | 72.83 | 80.98
Nebraska | 59.55 | 71.69
Nevada | 50.00 | 65.00
New Hampshire | 50.00 | 65.00
New Jersey | 50.00 | 65.00
New Mexico | 73.04 | 81.13
New York | 50.00 | 65.00
North Carolina | 61.46 | 73.02
North Dakota | 69.87 | 78.91
Northern Mariana Islands* | 50.00 | 65.00
Ohio | 58.78 | 71.15
Oklahoma | 70.43 | 79.30
Oregon | 59.20 | 71.44
Pennsylvania | 54.65 | 68.26
Puerto Rico* | 50.00 | 65.00
Rhode Island | 52.45 | 66.72
South Carolina | 69.34 | 78.54
South Dakota | 65.93 | 76.15
Tennessee | 63.64 | 74.55
Texas | 60.17 | 72.12
Utah | 70.00 | 79.00
Vermont | 63.06 | 74.14
Virgin Islands* | 50.00 | 65.00
Virginia | 51.45 | 66.02
Washington | 50.37 | 65.26
West Virginia | 75.27 | 82.69
Wisconsin | 58.57 | 71.00
Wyoming | 61.97 | 73.38
* For purposes of section 1118 of the Social Security Act, the percentage used under titles I, X, XIV, and XVI and Part A of title IV will be 75 per centum.
** The value in the table was set for the state plan under titles XIX and XXI and for capitation payments and DSH allotments under those titles. For other purposes, including programs remaining in Title IV of the Act, the percentage for DC is 50.00.

[FR Doc. 00-29112 Filed 11-16-00; 8:45 am]

BILLING CODE 4154-05-P